DEPARTMENT OF TRANSPORTATION

Federal Aviation Administration

14 CFR Part 97

[Docket No. 30902; Amdt. No. 3537]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 10, 2013. The compliance date for each SIAP, associated Takeoff Minimums, and ODP is specified in the amendatory provisions.

The incorporation by reference of certain publications listed in the regulations is approved by the Director of the Federal Register as of June 10, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or,

4. The National Archives and Records Administration (NARA). For information on the availability of this material at NARA, call 202-741-6030, or go to: http://www.archives.gov/federal_register/code_of_federal_regulations/ibr_locations.html.

Availability— All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on May 24, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§ 97.23, 97.25, 97.27, 97.29, 97.31, 97.33, 97.35 [Amended]

Effective 27 JUNE 2013

Gustavus, AK, Gustavus, GUSTAVUS ONE, Graphic DP

Gustavus, AK, Gustavus, Takeoff Minimums and Obstacle DP, Amdt 3

Homer, AK, Homer, LOC/DME BC RWY 22, Amdt 5

Homer, AK, Homer, RNAV (GPS) Y RWY 4, Amdt 1

Homer, AK, Homer, RNAV (GPS) Y RWY 22, Amdt 1

Homer, AK, Homer, RNAV (GPS) Z RWY 4, Amdt 1

Homer, AK, Homer, RNAV (GPS) Z RWY 22, Amdt 1

Homer, AK, Homer, Takeoff Minimums and Obstacle DP, Amdt 2

Cullman, AL, Cullman Regional Airport—Folsom Field, RNAV (GPS) RWY 2, Orig-C

Cullman, AL, Cullman Regional Airport—Folsom Field, RNAV (GPS) RWY 20, Orig-B

Cullman, AL, Cullman Regional Airport—Folsom Field, Takeoff Minimums and Obstacle DP, Amdt 2A

Carlsbad, CA, McClellan-Palomar, RNAV (GPS) X RWY 24, Orig

Carlsbad, CA, McClellan-Palomar, RNAV (GPS) Y RWY 24, Amdt 3

San Francisco, CA, San Francisco Intl, LOC/DME Y RWY 28L, Orig

San Francisco, CA, San Francisco Intl, LOC/DME Y RWY 28R, Orig

San Francisco, CA, San Francisco Intl, RNAV (GPS) RWY 28L, Amdt 3

San Francisco, CA, San Francisco Intl, RNAV (GPS) PRM RWY 28L (SIMULTANEOUS CLOSE PARALLEL), Orig

San Francisco, CA, San Francisco Intl, RNAV (GPS) PRM X RWY 28R (SIMULTANEOUS CLOSE PARALLEL), Orig

San Francisco, CA, San Francisco Intl, RNAV (GPS) X RWY 28R, Orig

San Francisco, CA, San Francisco Intl, RNAV (GPS) Z RWY 28R, Amdt 3

San Francisco, CA, San Francisco Intl, RNAV (RNP) Y RWY 28R, Amdt 1

Fort Lauderdale, FL, Fort Lauderdale/Hollywood Intl, RNAV (GPS) Y RWY 28R, Amdt 3A

Atlanta, GA, Hartsfield-Jackson Atlanta Intl, RNAV (GPS) Y RWY 8L, Amdt 3

Atlanta, GA, Hartsfield-Jackson Atlanta Intl, RNAV (RNP) Z RWY 8L, Amdt 1

Atlanta, GA, Hartsfield-Jackson Atlanta Intl, RNAV (RNP) Z RWY 28, Amdt 2

Chicago, IL, Chicago Midway Intl, ILS OR LOC/DME RWY 31C, Amdt 2

Chicago, IL, Chicago Midway Intl, RNAV (GPS) Z RWY 4R, Amdt 3B

Chicago, IL, Chicago Midway Intl, RNAV (GPS) Z RWY 31C, Amdt 3

Chicago, IL, Chicago Midway Intl, RNAV (RNP) Y RWY 4R, Orig

Chicago, IL, Chicago Midway Intl, RNAV (RNP) Y RWY 13C, Amdt 2

Chicago, IL, Chicago Midway Intl, RNAV (RNP) Y RWY 31C, Orig

Boston, MA, General Edward Lawrence Logan Intl, RNAV (GPS) RWY 32, Orig-C

Falmouth, MA, Cape Cod Coast Guard Air Station, TACAN RWY 14, Amdt 2

Mansfield, MA, Mansfield Muni, RNAV (GPS) RWY 32, Orig-A

Detroit, MI, Detroit Metropolitan Wayne County, ILS PRM RWY 3R, ILS PRM RWY 3R (CAT II), ILS PRM RWY 3R (CAT III) (SIMULTANEOUS CLOSE PARALLEL), Orig-C

Detroit, MI, Detroit Metropolitan Wayne County, ILS PRM RWY 4R, ILS PRM RWY 4R (CAT II), ILS PRM RWY 4R (CAT III) (SIMULTANEOUS CLOSE PARALLEL), Orig-B

Detroit, MI, Detroit Metropolitan Wayne County, ILS PRM RWY 21L (SIMULTANEOUS CLOSE PARALLEL), Orig-D

Detroit, MI, Detroit Metropolitan Wayne County, ILS PRM RWY 22L (SIMULTANEOUS CLOSE PARALLEL), Orig-B

Detroit, MI, Detroit Metropolitan Wayne County, ILS PRM Y RWY 4L (SIMULTANEOUS CLOSE PARALLEL), Orig-D

Detroit, MI, Detroit Metropolitan Wayne County, ILS PRM Y RWY 22R (SIMULTANEOUS CLOSE PARALLEL), Orig-D

Detroit, MI, Detroit Metropolitan Wayne County, RNAV (GPS) RWY 4R, Amdt 1B

Worthington, MN, Worthington Muni, VOR RWY 18, Amdt 10

Sikeston, MO, Sikeston Memorial Muni, RNAV (GPS) RWY 2, Amdt 1

Sikeston, MO, Sikeston Memorial Muni, RNAV (GPS) RWY 20, Amdt 2

Prentiss, MS, Prentiss-Jefferson Davis County, RNAV (GPS) RWY 12, Amdt 1

Prentiss, MS, Prentiss-Jefferson Davis County, RNAV (GPS) RWY 30, Amdt 2

Nashua, NH, Boire Fld, ILS OR LOC RWY 14, Amdt 1

Nashua, NH, Boire Fld, NDB RWY 14, Orig

Nashua, NH, Boire Fld, RNAV (GPS) RWY 14, Amdt 1

Nashua, NH, Boire Fld, RNAV (GPS) RWY 32, Amdt 1

Nashua, NH, Boire Fld, Takeoff Minimums and Obstacle DP, Amdt 4

Nashua, NH, Boire Fld, VOR-A, Amdt 12

Buffalo, NY, Buffalo Niagara Intl, ILS OR LOC RWY 5, Amdt 16

Buffalo, NY, Buffalo Niagara Intl, ILS OR LOC RWY 23, Amdt 31

Buffalo, NY, Buffalo Niagara Intl, RNAV (GPS) RWY 14, Amdt 2

New York, NY, John F Kennedy Intl, RNAV (RNP) Z RWY 22L, Amdt 1

Allentown, PA, Lehigh Valley Intl, ILS OR LOC RWY 6, Amdt 23

Allentown, PA, Lehigh Valley Intl, ILS OR LOC RWY 13, Amdt 7

Allentown, PA, Lehigh Valley Intl, ILS OR LOC/DME RWY 24, Amdt 1

Allentown, PA, Lehigh Valley Intl, RNAV (GPS) RWY 6, Amdt 1

Allentown, PA, Lehigh Valley Intl, RNAV (GPS) RWY 13, Amdt 1

Allentown, PA, Lehigh Valley Intl, RNAV (GPS) RWY 24, Amdt 1

Allentown, PA, Lehigh Valley Intl, RNAV (GPS) RWY 31, Amdt 2

Allentown, PA, Lehigh Valley Intl, RNAV (GPS) Z RWY 6, Orig, CANCELED

Allentown, PA, Lehigh Valley Intl, RNAV (GPS) Z RWY 13, Orig, CANCELED

Allentown, PA, Lehigh Valley Intl, VOR-A, Amdt 10

Grove City, PA, Grove City, RNAV (GPS) RWY 10, Amdt 1

Grove City, PA, Grove City, RNAV (GPS) RWY 28, Amdt 1

Grove City, PA, Grove City, Takeoff Minimums and Obstacle DP, Amdt 4

Grove City, PA, Grove City, VOR/DME-A, Amdt 7

Charleston, SC, Charleston AFB/Intl, RNAV (RNP) Z RWY 33, Orig-A

Cleveland, TN, Cleveland Rgnl Jetport, RNAV (GPS) RWY 3, Orig

Cleveland, TN, Cleveland Rgnl Jetport, RNAV (GPS) RWY 21, Orig

Cleveland, TN, Cleveland Rgnl Jetport, Takeoff Minimums and Obstacle DP, Orig

Murfreesboro, TN, Murfreesboro Muni, RNAV (GPS) RWY 36, Amdt 2

Brownsville, TX, Brownsville/South Padre Island Intl, ILS OR LOC RWY 13R, Amdt 1A

Brownsville, TX, Brownsville/South Padre Island Intl, LOC BC RWY 31L, Amdt 11D

Brownsville, TX, Brownsville/South Padre Island Intl, RNAV (GPS) RWY 13R, Amdt 2

Dallas-Fort Worth, TX, Dallas/Fort Worth Intl, ILS OR LOC RWY 13R, ILS RWY 13R (SA CAT I), ILS RWY 13R (SA CAT II), Amdt 9

Dallas, TX, Dallas Love Field, ILS OR LOC Y RWY 13L, Amdt 32

Dallas, TX, Dallas Love Field, RNAV (GPS) Y RWY 13L, Amdt 1

Dallas, TX, Dallas Love Field, RNAV (GPS) Z RWY 13L, Amdt 2

Harlingen, TX, Valley Intl, RNAV (GPS) RWY 17L, Amdt 2A

Littlefield, TX, Littlefield Muni, NDB RWY 1, Amdt 1

Littlefield, TX, Littlefield Muni, RNAV (GPS) RWY 1, Orig

Littlefield, TX, Littlefield Muni, Takeoff Minimums and Obstacle DP, Orig

Waco, TX, Waco Rgnl, RNAV (GPS) RWY 1, Amdt 1

Salt Lake City, UT, Salt Lake City Intl, RNAV (GPS) RWY 35, Amdt 2

Wisconsin Rapids, WI, Alexander Field South Wood County, GPS RWY 20, Orig-B, CANCELED

Wisconsin Rapids, WI, Alexander Field South Wood County, RNAV (GPS) RWY 2, Orig

Wisconsin Rapids, WI, Alexander Field South Wood County, RNAV (GPS) RWY 20, Orig

Charleston, WV, Yeager, RNAV (GPS) Y RWY 5, Amdt 1

Charleston, WV, Yeager, RNAV (GPS) Y RWY 23, Amdt 1

Charleston, WV, Yeager, RNAV (RNP) Z RWY 23, Orig

RESCINDED: On May 01, 2013 (78 FR 25384), the FAA published an Amendment in Docket No. 30896, Amdt No. 3531 to Part 97 of the Federal Aviation Regulations under section 97.33. The following entries for Livingston, TN, effective 27 June 2013, are hereby rescinded in their entirety:

Livingston, TN, Livingston Muni, RNAV (GPS) RWY 3, Amdt 1

Livingston, TN, Livingston Muni, RNAV (GPS) RWY 21, Amdt 1

RESCINDED: On May 14, 2013 (78 FR 28135), the FAA published an Amendment in Docket No. 30898, Amdt No. 3533 to Part 97 of the Federal Aviation Regulations under section 97.29 and 97.33. The following entries for Miami, FL, effective 27 June 2013, are hereby rescinded in their entirety:

Miami, FL, Miami Intl, ILS OR LOC RWY 9, Amdt 10

Miami, FL, Miami Intl, RNAV (GPS) RWY 9, Amdt 1

[FR Doc. 2013-13366 Filed 6-7-13; 8:45 am]

BILLING CODE 4910-13-P